DEPARTMENT OF AGRICULTURE

Forest Service

Tahoe National Forest; Placer County, California; Sugar Pine Project Water Right Permit 15375 Extension and Radial Gates Installation

AGENCY: Forest Service, USDA.

ACTION: Notice of intent to prepare an environmental impact statement.

SUMMARY: Foresthill Public Utility District (Foresthill) has submitted an application to the Tahoe National Forest (TNF) to amend their existing Special Use Permit (Permit) for Sugar Pine Dam and Reservoir (Sugar Pine Project) to increase water storage capacity of the reservoir and improve the stability of Foresthill's water supply by installing radial steel gates in the spillway of the dam. Installation of the radial gates would increase water storage capacity by 3,950 acre-feet (AF) up from 6,922 AF currently to 10,872 AF after installation; the maximum surface elevation of the reservoir would rise 20 vertical feet and inundate approximately 44 additional acres of NFS lands. The surface area of the reservoir would increase from 160 acres to approximately 204 acres if the project is implemented. Important NFS resources would be impacted by the project; popular reservoir recreation facilities would be inundated along with habitat for plants and wildlife, including habitat for Forest Service Sensitive Species.

DATES: Comments concerning the scope of the analysis must be received by October 3, 2016 for purposes of standing pursuant to Forest Service predecisional administrative review regulations at 36 CFR part 218; however, public input will be continue to be accepted and considered by the Forest Service throughout the course of the environmental analysis. The draft environmental impact statement is expected in winter 2016 and the final environmental impact statement is expected by fall of 2017.

ADDRESSES: Send written comments to: Eli Ilano, Tahoe National Forest Supervisor, c/o NEPA Contractor, 2525 Warren Drive, Rocklin, CA 95677. Comments may also be sent via email to sugarpinecomments@ecorpconsulting.com. Two public scoping meetings will be held during the scoping comment period:

September 19, 2016 from 6 to 7:30 p.m. at Foresthill Veterans Memorial Hall, 24601 Harrison Street, Foresthill, CA 95631

And

September 20, 2016 from 6 to 7:30 p.m. at ECORP Consulting, 2529 Warren Drive, Rocklin, CA 95677

FOR FURTHER INFORMATION CONTACT: Additional information concerning the proposed project can be obtained from the TNF projects Web page at http://www.fs.usda.gov/projects/tahoe/landmanagement/projects, or by contacting Tim Cardoza, Forest Land Use Program Manager, by phone (530) 478-6210 or email tcardoza@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

Applications for use and occupancy of NFS lands are required to be consistent with the Forest Plan. The TNF's purpose in responding to Foresthill's Permit amendment application is to achieve Forest Plan desired conditions for issuance of permits, or permit amendments, when such uses maximize public benefits and impacts to NFS resources are mitigated. The Forest Plan recognizes the importance of Sugar Pine Reservoir as a municipal water supply and describes the potential for installation of radial gates in the existing spillway of the dam. The Forest Plan emphasizes recreation management for the Sugar Pine Reservoir basin in conjunction with other uses.

The TNF needs to respond to Foresthill's application in order to comply with Title V of the Federal Land Policy Management Act and related Forest Service land use regulations. Amendment of the Permit to authorize installation of the radial gates would be consistent with provisions of the Sugar Pine Dam and Reservoir Conveyance Act which require that changes in use or operation of reservoir facilities comply with all applicable laws and regulations at the time of the changes. Foresthill proposes to increase the water storage capacity of Sugar Pine Reservoir to ensure the availability of the reliable long term water supply for existing development and planned future land uses within the existing water right place of use for State Water Resources Control Board Permit Number 15375 and the Foresthill Divide Community Plan. The additional water storage provided by the proposed project is also intended to enhance water supply reliability needed to protect Foresthill from a prolonged drought; climate change concerns and state initiatives to increase water storage in California are also factors which support the need for action on Foresthill's requested permit amendment.

Prior to full implementation of the Foresthill Divide Community Plan, or build-out, Foresthill may continue to carry out short-term transfers of stored reservoir water to reduce shortages in downstream communities, to provide ecological benefits or for other beneficial uses consistent with the California Water Code and State Water Resources Control Board's water transfer program. Foresthill used revenue generated from a 2015 water transfer to help fund replacement of an aging storage tank used to provide potable water for the Foresthill community and to maintain water system pressure necessary to comply with state requirements for firefighting; revenue generated by Foresthill from future water transfers may be used to fund similar water system infrastructure projects.

Proposed Action

The proposed action is to amend Foresthill's existing Permit to authorize an increase the size and water storage capacity of the reservoir. The proposed action has four components: (1) Installation of radial gates in the spillway of the existing dam, (2) changes in reservoir operations, (3) timber harvest and hazard tree abatement involving one to two million board feet (mmbf) of timber on lands affected by the project and (4) implementation of project design features and mitigation measures to avoid, minimize or compensate for projected impacts to NFS recreation and habitat resources; including replacement of recreation facilities affected by inundation of additional NFS lands.

Lead and Cooperating Agencies

The Tahoe National Forest is the lead federal agency for the Environmental Impact Statement (EIS) pursuant to requirements of the National Environmental Policy Act (NEPA). Foresthill Public Utility District is a cooperating agency and the lead state agency for the Environmental Impact Report (EIR) pursuant to requirements of the California Environmental Quality Act (CEQA). The Tahoe National Forest and Foresthill Public Utility District will be preparing a joint environmental document (EIS/EIR) to meet NEPA and CEQA requirements.

Responsible Official

The Responsible Official is the Forest Supervisor of the Tahoe National Forest.

Nature of Decision To Be Made

The decision to be made is whether to approve the Permit amendment as described above, to modify the project to meet the purpose and need while addressing issues raised in public scoping, or to take no action at this time.

Permits or Licenses Required

Amendment of Foresthill's Special Use Permit for Sugar Pine Dam and Reservoir.

Scoping Process

This notice of intent initiates the scoping process, which guides the development of the environmental impact statement. Two public scoping meetings will be held during the scoping comment period:

September 19, 2016 from 6 to 7:30 p.m. at Foresthill Veterans Memorial Hall, 24601 Harrison Street, Foresthill, CA 95631

And

September 20, 2016 from 6 to 7:30 p.m. at ECORP Consulting, 2529 Warren Drive, Rocklin, CA 95677

It is important that reviewers provide their comments at such times and in such manner that they are useful to the agency's preparation of the environmental impact statement. Therefore, comments should be provided prior to the close of the comment period and should clearly articulate the reviewer's concerns and contentions. The most useful comments to inform development of the environmetnal impact statement are those that identify issues in the context of a cause and effect relationship associated with the proposed action or alternatives to the proposed action.

This project will be subject to 36 CFR 218 Project-level Predecisional Administrative Review Process (Parts A and B). Individuals and entities who have submitted timely, specific written comments regarding a proposed project or activity during public comment periods, including this 30-day public scoping period, may file an objection (36 CFR 218.5(a)). Written comments received, including the names and addresses of those who comment, will be considered part of the public record on this proposal and will be available for public inspection (36 CFR 218.25(b)(2)). For purposes of meeting the 36 CFR 218.5 eligibility requirements, the public scoping period will end 30 days from the date this legal notice is published. Comments submitted anonymously will be accepted and considered.

Dated: August 24, 2016.
Eli Ilano,
Forest Supervisor, Tahoe National Forest.

[FR Doc. 2016-20921 Filed 9-1-16; 8:45 am]

BILLING CODE 3411-15-P